DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-0361.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: 2023-2026 National Survey on Drug Use and Health: Methodological Field Tests (OMB No. 0930-0290)—Extension

The National Survey on Drug Use and Health (NSDUH) is a survey of the U.S. civilian, non-institutionalized population aged 12 years old or older. The data are used to provide estimates of substance use and mental illness at the national, state, and substate levels. NSDUH data also help to identify the extent of substance use and mental illness among different subgroups, estimate trends over time, and determine the need for treatment services. The results are used by SAMHSA, the Office of National Drug Control Policy (ONDCP), Federal Government agencies, and other organizations and researchers to establish policy, direct program activities, and better allocate resources.

Methodological tests will continue to examine the feasibility, quality, and efficiency of new procedures or revisions to existing survey protocol. Specifically, the tests will measure the reliability and validity of certain questionnaire sections and items through multiple measurements on a set of respondents; assess new methods for gaining cooperation and participation of respondents with the goal of increasing response and decreasing potential bias in the survey estimates; and assess the impact of new sampling techniques and technologies on respondent behavior and reporting. Research will involve focus groups, cognitive testing, and field tests. Prior to each methodological test, a separate clearance memo (under this generic clearance) will be presented to OMB for review.

These methodological tests will continue to examine ways to increase data quality, lower operating costs, and gain a better understanding of sources and effects of non-sampling error on NSDUH estimates. Particular attention will be given to minimizing the impact of design changes so survey data can be comparable over time. If findings suggest changes that might lead to improvements to the study, current procedures or data collection instruments may be revised.

The number of respondents to be included in each field test will vary, depending on the nature of the subject being tested and the target population. However, the total estimated response burden is 14,801 hours. The exact number of subjects and burden hours for each test are unknown at this time, but will be clearly outlined in each individual submission. These estimated burden hours over three years are as follows:

Estimated Total Burden for NSDUH Methodological Field Tests
Activity | Number of respondents | Responses per respondent | Total number of responses | Average burden per response (hrs) | Total burden (hrs.)
a. Focus Groups | 378 | 1 | 378 | 2.0 | 756
b. Respondent screening for a | 473 | 1 | 473 | 0.083 | 39
c. Cognitive testing | 420 | 1 | 420 | 1.0 | 420
d. Respondent screening for c | 800 | 1 | 800 | 0.083 | 66
e. Field Tests | 12,000 | 1 | 12,000 | 1.0 | 12,000
f. Household screening for e | 16,200 | 1 | 16,200 | 0.083 | 1,345
g. Screening Verification for e | 804 | 1 | 804 | 0.067 | 54
h. Interview Verification for e | 1,800 | 1 | 1,800 | 0.067 | 121
Total | 32,875 |  | 32,875 |  | 14,801

Send comments to Carlos Graham, SAMHSA Reports Clearance Officer, 5600 Fisher Lane, Room 15E57A, Rockville, MD 20852 OR email him a copy at carlos.graham@samhsa.hhs.gov. Written comments should be received by April 3, 2023.

Alicia Broadus,
Public Health Advisor.

[FR Doc. 2023-02188 Filed 2-1-23; 8:45 am]

BILLING CODE 4162-20-P